FEDERAL COMMUNICATIONS COMMISSION

[Report No. 2882]

Petition for Reconsideration of Action in Rulemaking Proceeding

March 6, 2009.

A Petition for Reconsideration has been filed in the Commission's Rulemaking proceeding listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to this petition must be filed by March 27, 2009. See Section 1.4(b)(1) of the Commission's rules (47 CFR 1.4(b)(1)). Replies to an opposition must be filed within 10 days after the time for filing oppositions have expired.

Subject: In the Matter of Amendment of Part 90 of the Commission's Rules to Provide for Flexible Use of the 896-901 MHz and 935-940 MHz Band Allotted to the Business and Industrial Land Transportation Pool (WT Docket No. 05-62),

Improving Public Safety Communications in the 800 MHz Band on Certain Part 90 (WT Docket No. 02-55), Consolidating the 800 MHz and 900 MHz Industrial/Land Transportation and Business Pool Channels.

Number of Petitions Filed: 1.

Marlene H. Dortch,
Secretary.

[FR Doc. E9-5397 Filed 3-11-09; 8:45 am]

BILLING CODE 6712-01-P